DEPARTMENT OF HEALTH AND HUMAN SERVICES

Office of Inspector General

Program Exclusions: October 2002

AGENCY: Office of Inspector General, HHS.

ACTION: Notice of program exclusions.

During the month of October 2002, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
BARNABAS, RAVI | 11/20/2002
EGLIN AFB, FL
BERSHATSKI, FANYA | 11/20/2002
STUDIO CITY, CA
BOYKIN, LATRICE | 11/20/2002
LITTLE ROCK, AR
BURNETTE, MARILYN | 11/20/2002
RICHTON, MS
CARVAJAL, JOSE MIGUEL | 11/20/2002
COLEMAN, FL
CHYORNY, ANNE | 11/20/2002
BEVERLY HILLS, CA
CORDOVA, SANDRA | 11/20/2002
CHIMAYO, NM
CRAIG, CHERYL | 11/20/2002
CALEDONIA, MS
CRUMPTON, TERLESA M | 11/20/2002
MARIANNA, FL
DARUKA, PATRICIA A | 11/20/2002
WARWICK, RI
DAVIS, TRACEY DESHON | 11/20/2002
LITTLE ROCK, AR
DAVIS, LINDA | 11/20/2002
LITTLE ROCK, AR
DAVIS, ERNESIA LASHAWN | 11/20/2002
N LITTLE ROCK, AR
DECAPOTE, ONELIA | 11/20/2002
MIAMI, FL
DUCKETT, BRUCE DEVLON | 11/20/2002
FLINT, MI
FERGUSON, PATRICIA M | 11/20/2002
VANCLEAVE, MS
FISHER, SHERRY LYNNE | 11/20/2002
SPOKANE, WA
GARCIA, MARTIZA | 11/20/2002
MIAMI, FL
GARCIA, MARITZA | 11/20/2002
MIAMI, FL
GINN, AARON C | 11/20/2002
ASHLAND, KY
HARDY, ANDREW JR | 11/20/2002
OAK PARK, MI
HIPPOLYTE, JOSEPH WABUZOH JR | 11/20/2002
LOMPOC, CA
JRAGATSBANYAN, ART | 11/20/2002
LOS ANGELES, CA
LANGINIKORO, HAROLD J | 11/20/2002
LYNNWOOD, WA
NELMS, ANGELA | 11/20/2002
DAYTON, OH
OSMAN, MOHAMED AWAD | 11/20/2002
RICHMOND, VA
PATTON, PATRICIA ANN | 11/20/2002
MARIANNA, AR
PEREZ, JESUS | 11/20/2002
MIAMI, FL
PRESTON, KENDA L | 11/20/2002
CANTON, OH
RESPIRATORY DRUGGIST, INC | 11/20/2002
FOLEY, AL
REYES, RAMON | 11/20/2002
HIALEAH, FL
ROSS, SHAMEKEA | 11/20/2002
COLUMBUS, OH
SCHMIDT, KATHLEEN LYNN | 11/20/2002
ALEXANDRIA, MN
SOILEAU, JOSEPH L | 11/20/2002
CAMERON, LA
STEINBERG, EDWARD M | 11/20/2002
N MIAMI BEACH, FL
SWIATEK, DAWN M | 11/20/2002
CHICAGO, IL
TAGUMASI, ABNER | 11/20/2002
CARSON, CA
VAUGHN, TRACY ALLEN | 11/20/2002
FOLEY, MN
WALTZ, DAVID MATHEW | 11/20/2002
BEAVERTON, MI
WATTS, VICKIE LANELL | 11/20/2002
TEMPLE, TX
FELONY CONVICTION FOR HEALTH CARE FRAUD
SODERSTROM, RITA MARLENE | 11/20/2002
CLIFTON, CO
STROM, JOHN DAVID | 11/20/2002
STOW, OH
FELONY CONTROL SUBSTANCE CONVICTION
BAYBO, KAREN A | 11/20/2002
ST LOUIS, MO
BURNS, JOANNE KLINA | 11/20/2002
PROSPECT PARK, PA
DE LA FLOR, RICHARD | 11/20/2002
TOLEDO, OH
HEMMERLING, BONNIE DEE | 11/20/2002
FRANKFORT, IN
KENTER, BARBARA SUSAN | 11/20/2002
OMAHA, NE
MAGGARD-ISON, EDNA LOUISE | 11/20/2002
KING CITY, MO
PETRY, SAMANTHA L | 11/20/2002
ALDERSON, WV
ROSENAUER, JENNIFER A | 11/20/2002
CHESTERFIELD, MO
SANTISTEVAN, KELLY K | 11/20/2002
HELPER, UT
SMITH, PAMELA M | 11/20/2002
SINKING SPRING, PA
PATIENT ABUSE/NEGLECT CONVICTIONS
EDWARDS, JACQUELINE RENEE | 11/20/2002
DETROIT, MI
FERNANDEZ, EDNA L | 11/20/2002
MARINA, CA
FIGURES, SANDRA | 11/20/2002
DERMOTT, AR
HARRIS, YOLANDA | 11/20/2002
CHARLESTON, MS
HENRY, PAUL | 11/20/2002
PARMA HGTS, OH
HOPPE, JUDITH PHILOMENE | 11/20/2002
EDEN VALLEY, MN
JOHNSON, MATTHEW PAUL AZURE | 11/20/2002
BEMIDJI, MN
MCNEAL, CAROL G | 11/20/2002
ALEXANDRIA, LA
NANCE, BENJAMIN | 11/20/2002
BRENT, AL
PROEHL, ARDY RENEE | 11/20/2002
MAPLETON, MN
STAFFEN, RANDY | 11/20/2002
JEFFERSON, OH
STONE, BRIAN L | 11/20/2002
CONWAY, AR
WILSON, NATASHA | 11/20/2002
CLEVELAND, OH
LICENSE REVOCATION/SUSPENSION/SURRENDERED
ABRAHAM, JANIS | 11/20/2002
NATCHITOCHES, LA
ACOSTA, FANNY | 11/20/2002
GLENDORA, CA
BAILES, WILLIAM HUBERT | 11/20/2002
FRESNO, CA
BAILEY, JEFFREY DEAN | 11/20/2002
SAN DIEGO, CA
BLANK, NOELLE M | 11/20/2002
EL PASO, TX
BLANKENSHIP, RAMONA | 11/20/2002
OVIEDO, FL
BOONE, CHRISTY WILLIAMS | 11/20/2002
ROCKY MOUNT, NC
BROOKS, JANICE YVONNE | 11/20/2002
UPLAND, CA
BROUSSARD, SHANNON L | 11/20/2002
FORT WORTH, TX
BROWN, JAMES R | 11/20/2002
ENFIELD, CT
BUKOWSKY, KELLY SUZANNE | 11/20/2002
LOCKHART, TX
BUSTER, PATRICIA LOUISE | 11/20/2002
TEXARKANA, TX
CAINE, MARY ELIZABETH | 11/20/2002
OLIVE BRANCH, MS
CANTERBERRY, JANE ARMSTRONG | 11/20/2002
HASTINGS, NE
CARRIL, ANTHONY | 11/20/2002
MIAMI, FL
CESENA, ALBERTO | 11/20/2002
BLYTHE, CA
CROWL, BARBARA M | 11/20/2002
HASTINGS, NE
CUBILLOS, MARY CHRISTINA | 11/20/2002
NORFOLK, NE
DAVIS, JUDY K | 11/20/2002
BAYTOWN, TX
DEAN, BARBARA FARLEY | 11/02/2002
HOUSTON, TX
DELCAMBRE, TAMMY | 11/20/2002
BILOXI, MS
DEROUEN, TAMARA | 11/20/2002
SACRAMENTO, CA
DUSTIN, DANYA D | 11/20/2002
BYLAS, AZ
EDWARDS, SHANDA L | 11/20/2002
ROCK ISLAND, IL
EENHUIS, DAWN BARNES | 11/20/2002
BARNESVILLE, MN
EGGERS, AUTUMN MARIE | 11/20/2002
LITTLE ROCK, AR
ELLIG, MICHAEL HOWARD | 11/20/2002
ODESSA, TX
ERDMAN, DENNIS | 11/20/2002
PAYSON, AZ
ERNST, LAURA LEE | 11/20/2002
SIMI VALLEY, CA
FARRAN, KALEEN ROSE | 11/20/2002
WICHITA, KS
FEELEY, RACHEL G | 11/20/2002
MANVILLE, RI
FORTUNATO, JOSE IGNACIO | 11/20/2002
VALLEJO, CA
FREDERICK, EDMOND GUINN | 11/20/2002
MAURICEVILLE, TX
FREY, KATHRYN ANN | 11/20/2002
PALM DESERT, CA
FRONICK, KAREN MARIE | 11/20/2002
HOUSTON, TX
GARCIA, RANDAL LEE | 11/20/2002
BLACK BUTTE RANCH, OR
GARCIA, NANCY PARE | 11/20/2002
TUSCON, AZ
GEMMELL, WILLIAM S | 11/20/2002
BRATTLEBORO, VT
GIFFORD, CRAIG P | 11/20/2002
SALT LAKE CITY, UT
GILL, MISSY L | 11/20/2002
APPALACHIA, VA
GORDON, MARCIA G | 11/20/2002
ARLINGTON HGTS, IL
GREENWELL, JOSIANNE MARIE GOFF | 11/20/2002
MORGANFIELD, KY
GRIDDINE, WILLIAM ERWIN | 11/20/2002
VAN NUYS, CA
GRIER, LISHA D | 11/20/2002
VIRGINIA BEACH, VA
GRIFFIN, CONSTANCE ROBINSON | 11/20/2002
NEWPORT NEWS, VA
HARRIS, JAMES E | 11/20/2002
LAS VEGAS, NV
HARWELL, CHERYL EVANS | 11/20/2002
WOODVILLE, TX
HIGGENBOTTOM, CAROL DENISE | 11/20/2002
FARMERSBURG, IN
HILLER, DONALD JOHN | 11/20/2002
PHOENIX, AZ
HOLLAND, DOUGLAS THOMAS JR | 11/20/2002
ELK GROVE, CA
JONES, MICHAEL LYNN | 11/20/2002
NEW CASTLE, IN
KIMBLE, LLOYD | 11/20/2002
SAN ANTONIO, TX
KOSTEL, JEFFRY P | 11/20/2002
CHICAGO, IL
LAKE, STEPHEN | 11/20/2002
BEVERLY HILLS, CA
MALONE, EVELYN DEMETRA | 11/20/2002
HOUSTON, TX
MAROUCHOC, LORRAINE M | 11/20/2002
JIM THORPE, PA
MATTHEWS, HAZEL | 11/20/2002
VALLEJO, CA
MCCASH, SHARLIE F | 11/20/2002
AZLE, TX
MCDERMOTT, DONNA LYNN | 11/20/2002
ANGLETON, TX
MIGLIN, ROBERT ANTHONY | 11/20/2002
ENCINO, CA
MILLER, JUDITH | 11/20/2002
COGAN STATION, PA
MITCHELL, GINA M | 11/20/2002
N KINGSTOWN, RI
MOMAH, CLEMENT I | 11/20/2002
BEL AIR, MD
MONTIGNY, HOLLY | 11/20/2002
WESTPORT, MA
MORALES, ALMARIO | 11/20/2002
VALLEJO, CA
MORRIS, ANNE MARTIN | 11/20/2002
VICKSBURG, MS
MUNSON, MILTON ANDREW | 11/20/2002
OMAHA, NE
MURRAY, LAWRENCE FRANKLIN | 11/20/2002
LUCERNE, CA
NODA, CARLOS M | 11/20/2002
MIAMI, FL
PERRINO, PAMELA SUZANNE | 11/20/2002
PHOENIX, AZ
PURVIN, JONATHAN MARK | 11/20/2002
SANDY, UT
RAFFIELD, MICHAEL CORBETT | 11/20/2002
FLORENCE, AL
RASCO, LINDA M C | 11/20/2002
MARIETTA, GA
RECTOR, BRENDA LEE | 11/20/2002
ORO VALLEY, AZ
RESENDIZ, ROLAN | 11/20/2002
TURLOCK, CA
RHOADES, KAROLYN S | 11/20/2002
OKEECHOBEE, FL
RILEY, KACHINA SU | 11/20/2002
HOLLY HILL, FL
ROWLAND, KEVIN A | 11/20/2002
BRAYMER, MO
RUTZ, CATHERINE DOUGHERTY | 11/20/2002
LINCOLN, NE
SANTOS, ANA PAULA | 11/20/2002
PHILADELPHIA, PA
SCHLEUGER, LAURA ANN | 11/20/2002
LINCOLN, NE
SCHMITZ, E HEATHER | 11/20/2002
BISMARCK, ND
SHANNON, PENNY M | 11/20/2002
VIRGINIA BEACH, VA
SPENCE, JASON KEITH | 11/20/2002
SAN FRANCISCO, CA
STEVENS, DORSIE MAE | 11/20/2002
TULSA, OK
TUSING, TRACEY L | 11/20/2002
FLORISSANT, MO
WHITE, HELEN L | 11/20/2002
OAKLAND, CA
FEDERAL/STATE EXCLUSION/SUSPENSION
BROWN, LOWELL JEROME | 11/20/2002
SPRINGFIELD, IL
MINOR, PANDORA M | 11/20/2002
NEW ORLEANS, LA
OKWUJE, PHILLIP | 11/20/2002
CHICAGO, IL
OWNED/CONTROLLED BY CONVICTED ENTITIES
AMG MEDICAL SERVICES, INC | 11/20/2002
N MIAMI BEACH, FL
GARSON & GARSON CHARTERED | 11/20/2002
MIAMI, FL
S FLORIDA HEARING SVC, INC | 11/20/2002
PITTSBURGH, PA
SOUTH FLORIDA THERAPEUTIC, INC | 11/20/2002
MIAMI, FL
DEFAULT ON HEAL LOAN
DREYER, FRANK J | 10/10/2002
SPOKANE, WA
RIIS, MARK L | 11/20/2002
GRAND PRAIRIE, TX

Dated: November 6, 2002.
Katherine B. Petrowski,
Director, Exclusions Staff, Office of Inspector General.

[FR Doc. 02-29130 Filed 11-15-02; 8:45 am]

BILLING CODE 4150-04-P